DEPARTMENT OF HOMELAND SECURITY

Federal Emergency Management Agency

[Docket ID: FEMA-2015-0003; OMB No. 1660-0068]

Agency Information Collection Activities: Proposed Collection; Comment Request; Federal Hotel and Motel Fire Safety Declaration Form

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the collection of information regarding the existence of smoke detectors and sprinkler systems within hotels and motels.

DATES: Comments must be submitted on or before April 3, 2015.

ADDRESSES: To avoid duplicate submissions to the docket, please use only one of the following means to submit comments:

(1) Online. Submit comments at www.regulations.gov under Docket ID FEMA-2015-0003. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Teressa Kaas, Fire Program Specialist, FEMA/U.S. Fire Administration, (301) 447-1263 for additional information. You may contact the Records Management Division for copies of the proposed collection of information at facsimile number (202) 212-4701 or email address: FEMA-Information-Collections-Management@fema.dhs.gov.

SUPPLEMENTARY INFORMATION: The Hotel and Motel Fire Safety Act of 1990, Public Law 101-391, requires FEMA to establish and maintain a list of hotels, motels, and similar places of public accommodation meeting minimum requirements for protection of life from fire; the list is known as the National Master List (NML). This law resulted from a series of deadly fires in hotels and motels, occurring in the late 1970's and 1980's, with high loss of life. The legislative intent of this public law is to provide all travelers the assurance of fire-safety in accommodations identified on the National Master List. The Hotel and Motel Fire Safety Act of 1990 further stipulates that Federal employees on official travel stay in properties approved by the authority having jurisdiction (AHJ) and listed on the current NML. For statutory reference see Title 15 U.S.C. ¶¶ 2224-26.

Collection of Information

Title: Federal Hotel and Motel Fire Safety Declaration Form.

Type of Information Collection: Extension, without change, of a currently approved information collection.

OMB Number: 1660-0068.

Form Titles and Numbers: FEMA Form 516-0-1, Federal Hotel and Motel Fire Safety Declaration Form.

Abstract: Applicants complete and submit the Hotel-Motel Declaration Form online through the USFA Web site (http://www.usfa.dhs.gov/applications/hotel/) or they may request a paper-based version. Applications submitted through the Web site are reviewed and, if approved, the applicant will receive a FEMA ID Number for their facility. Online submission is the preferred method selected by the majority applicants. Paper-based forms returned by traditional methods (USPS mail, special delivery, or facsimile) receive the same review process as those submitted online. Lodging establishments must meet a certain level of life-safety from fire, as defined in Public Law 101-391, to become eligible for listing on the NML. Federal employees use the NML to select lodging while traveling on government-related business, but the list is also accessible to the general public.

Affected Public: Business or other for-profit; State, local or Tribal Government.

Number of Respondents: 2,294.

Number of Responses: 2,655.

Estimated Total Annual Burden Hours: 696 hours.

Estimated Annualized Burden Hours and Costs
Type of respondent | Form name/form number | Number of respondents | Number of responses per respondent | Total number of responses | Average burden per response (in hours) | Total annual burden (in hours) | Average hourly wage rate | Total annual respondent cost
Business or other For-Profit | Federal Hotel and Motel Fire Safety Declaration Form/FEMA Form 516-0-1 | 2,275 | 1 | 2,275 | 0.25 (15 mins.) | 569 | $52.79 | $30,038
State, local or Tribal Government | Review of FEMA Form 516-0-1 | 19 | 20 | 380 | 0.333 (20 mins.) | 127 | 39.10 | 4,966
Total |  | 2,294 |  | 2,655 |  | 696 |  | 35,004
Note: The “Avg. Hourly Wage Rate” for each respondent includes a 1.4 multiplier to reflect a fully-loaded wage rate.

Estimated Cost: The estimated annual cost to respondents for the hour burden is $35,004. There are no annual costs to respondents' operations and maintenance costs for technical services. There are no annual start-up or capital costs. The cost to the Federal Government is $50,053.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 22, 2015.
Charlene D. Myrthil,
Director, Records Management Division, Mission Support, Federal Emergency Management Agency, Department of Homeland Security.

[FR Doc. 2015-01840 Filed 1-30-15; 8:45 am]

BILLING CODE 9111-45-P